DEPARTMENT OF LABOR

Employment and Training Administration

[TA-W-65,795]

Caye Upholstery, Amory, MS; Notice of Termination of Investigation

Pursuant to Section 221 of the Trade Act of 1974, as amended, an investigation was initiated on April 15, 2009 in response to a worker petition filed by workers of Caye Upholstery, Amory, Mississippi.

The petitioners have requested that the petition be withdrawn. Consequently, the investigation has been terminated.

Signed at Washington, DC, this 19th day of May 2009.
Elliott S. Kushner,
Certifying Officer, Division of Trade Adjustment Assistance.

[FR Doc. E9-13892 Filed 6-12-09; 8:45 am]

BILLING CODE 4510-FN-P